DEPARTMENT OF THE INTERIOR

National Park Service

[NPS-WASO-NAGPRA-NPS0039309; PPWOCRADN0-PCU00RP14.R50000]

Notice of Inventory Completion: David A. Fredrickson Archaeological Collections Facility at Sonoma State University, Rohnert Park, CA

AGENCY: National Park Service, Interior.

ACTION: Notice.

SUMMARY: In accordance with the Native American Graves Protection and Repatriation Act (NAGPRA), the Sonoma State University has completed an inventory of associated funerary objects and has determined that there is a cultural affiliation between the associated funerary objects and Indian Tribes or Native Hawaiian organizations in this notice.

DATES: Repatriation of the associated funerary objects in this notice may occur on or after February 18, 2025.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of the Sonoma State University and additional information on the determinations in this notice, including the results of consultation, can be found in its inventory or related records. The National Park Service is not responsible for the determinations in this notice.

Abstract of Information Available

In 2007, human remains from CA-MRN-254, CA-SON-159, CA-SON-293, CA-SON-455, and CA-SON-456 were listed in a Notice of Inventory Completion, published in the Federal Register on June 21, 2007 (72 FR 34275-34276) were repatriated to the Federated Indians of Graton Rancheria. Additionally, human remains from archaeological sites CA-MRN-484, CA-MRN-365, CA-MRN-502, CA-MRN- 503, CA-SON-290, and CA-SON-1048 were listed in a Notice of Inventory Completion, published in the Federal Register on June 4, 2007 (72 FR 30823-30825) were repatriated to the Federated Indians of Graton Rancheria. This notice includes the remaining 38,617 associated funerary objects not included in the previous repatriations by Sonoma State University from the previously listed archaeological sites.

A lot of one associated funerary object is a projectile point taken from CA-MRN-372 in Bolinas, Marin County, California. The cultural item has been housed at Sonoma State University since 1985 under Accession number 84-01.

The lot of 10 associated funerary objects taken from archaeological site CA-MRN-357 in Marin County, California are projectile points. The cultural items were found during re-inventory of MRN-27 collection. The tag in box identifies the cultural items as associated with a burial from CA-MRN-357.

A lot estimated to contain up to 100 items taken from archaeological site CA-MRN-365 was donated to Sonoma State University in 1984 or 1985 by the Marin Museum of the American Indian. The collection was never given an Accession number and has been housed at Sonoma State University since 2007.

A lot estimated to contain up to 100 items taken from archaeological site CA-MRN-254 was donated to Sonoma State University in 1971 by Jodie Sanchez. The collection was never given an Accession number and has been housed at Sonoma State University since 2007.

The lot of one associated funerary object taken from archaeological site CA-MRN-484 in Marin County, California is shell. The cultural item has been housed at Sonoma State University since 1978 under Accession number 78-03.

A lot estimated to contain up to 100 items, taken from archaeological site CA-MRN-502, was donated to Sonoma State University in 1992 by Steve Dietz, and has remained at Sonoma State University under Accession number 98-05.

A lot estimated to contain up to 100 items, taken from archaeological site CA-MRN-503, has remained at Sonoma State University under Accession number 98-05.

CA-SON-159 in Cotati, Sonoma County, California was excavated as part of a series archaeological field methods classes at Sonoma State University from 1972 to 1977. The four classes resulted in collections of cultural material housed under Accessions numbers 72-01, 74- 03, 75-28, and 77-11 at Sonoma State University. The lot of 12,033 associated funerary objects from the four Accession numbers combined are flaked stone tools and debitage; ground stone tools; bone tools; shell and bone beads and ornaments; unmodified faunal bone; dietary shell: historic-period items; and quartz crystal.

CA-SON-293 in Bodega Head, Sonoma County, California was excavated in 1968 by Western Heritage Inc. and Dr. David A. Fredrickson. The collection has been accessioned at the Sonoma State University since 1968 under Accession number 68-01. The lot of 334 associated funerary objects are botanical remains; flaked stone tools and debitage; faunal bone tools; ground stone tools; historic-period items; modified faunal bone and shell; ornament; pipe; shell beads; unmodified faunal bone and shell.

CA-SON-455/H in Santa Rosa, Sonoma County, California was excavated in 1968 and 1969 under the direction of Dr. David A. Fredrickson. The collection has been accessioned at the Sonoma State University since 1968 under 68-03. The lot of 14,743 associated funerary objects are flaked stone tools and debitage; ground stone tools; bone tools; shell beads; unmodified faunal bone; and historic-period items.

CA-SON-456 near Sebastopol, Sonoma County, California was excavated by students of Santa Rosa Junior College (SRJC) between 1969 and 1972. The collection was housed at SRJC until 1983 when it was transferred to Sonoma State University. The lot of 1,348 associated funerary objects are flaked stone tools and debitage; ground stone tools; shell and bone beads and other ornaments; bone tools; unmodified faunal bone; and historic-period items.

CA-SON-290 near Bodega, Sonoma County, California was excavated in 1977. The collection has remained at Sonoma State University since it was accessioned under 77-03. The lot of 121 associated funerary objects are a charmstone; flaked stone tools and debitage; groundstone; historic material; modified faunal bone; and unmodified shell.

CA-SON-1048 in Sebastopol, Sonoma County, California was investigated through two archaeological surveys and one excavation. The work resulted in collections of cultural material housed Sonoma State University under Accession numbers 77-03, 79-04, and 81-01. The lot of 9,626 associated funerary objects from all three Accession numbers combined are flaked stone tools and debitage; groundstone; historic-period material; modified faunal bone and shell; shell beads; unmodified faunal bone and shell.

Based on records concerning the associated funerary objects and the institution in which they are housed, there is no evidence of the associated funerary objects being treated with hazardous substances.

Cultural Affiliation

Based on the information available and the results of consultation, cultural affiliation is clearly identified by the information available about the human remains and associated funerary objects described in this notice.

Determinations

The Sonoma State University has determined that:

• The 38,617 objects described in this notice are reasonably believed to have been placed intentionally with or near individual human remains at the time of death or later as part of the death rite or ceremony.

• There is a connection between the associated funerary objects described in this notice and the Federated Indians of Graton Rancheria, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after February 18, 2025. If competing requests for repatriation are received, the Sonoma State University must determine the most appropriate requestor prior to repatriation. Requests for joint repatriation of the associated funerary objects are considered a single request and not competing requests. The Sonoma State University is responsible for sending a copy of this notice to the Indian Tribes and Native Hawaiian organizations identified in this notice.

Authority: Native American Graves Protection and Repatriation Act, 25 U.S.C. 3003, and the implementing regulations, 43 CFR 10.10.

Dated: January 6, 2025.
Melanie O'Brien,
Manager, National NAGPRA Program.

[FR Doc. 2025-01003 Filed 1-15-25; 8:45 am]

BILLING CODE 4312-52-P